DEPARTMENT OF HOMELAND SECURITY

[Docket No. DHS-2010-0039]

Homeland Security Advisory Council

AGENCY: The Office of Policy, DHS.

ACTION: Notice of Open Teleconference Federal Advisory Committee Meeting.

SUMMARY: The Homeland Security Advisory Council (HSAC) will meet via teleconference for the purpose of reviewing the final report of the HSAC's Quadrennial (Homeland Security) Review Advisory Committee.

DATE: The HSAC conference call will take place from 4 p.m. to 5 p.m. EST on Thursday, May 27, 2010. Please be advised that the meeting is scheduled for one and one-half hours and all participating members of the public should promptly call-in at the beginning of the teleconference.

ADDRESSES: The HSAC meeting will be held via teleconference. Members of the public interested in participating in this teleconference meeting may do so by following the process outlined below (see “Public Participation”).

Written comments must be submitted and received by May 20, 2010. Comments must be identified by Docket No. DHS-2010-0039 and may be submitted by one of the following methods:

• Federal eRulemaking Portal: http://www.regulations.gov. Follow the instructions for submitting comments.

• E-mail: HSAC@dhs.gov. Include docket number in the subject line of the message.

• Fax: (202) 282-9207.

• Mail: Homeland Security Advisory Council, Department of Homeland Security, Mailstop 0850, 245 Murray Lane, SW., Washington, DC 20528.

Instructions: All submissions received must include the words “Department of Homeland Security” and DHS-2010—0039, the docket number for this action. Comments received will be posted without alteration at http://www.regulations.gov, including any personal information provided.

Docket: For access to the docket to read background documents or comments received by the DHS Homeland Security Advisory Council, go to http://www.regulations.gov.

FOR FURTHER INFORMATION CONTACT: HSAC Staff at hsac@dhs.gov or 202-447-3135.

SUPPLEMENTARY INFORMATION: Notice of this meeting is given under the Federal Advisory Committee Act, 5 U.S.C. App. 2. The HSAC provides independent advice to the Secretary of the Department of Homeland Security to aid in the creation and implementation of critical and actionable policies and capabilities across the spectrum of homeland security operations. The HSAC periodically reports, as requested, to the Secretary, on such matters. The Federal Advisory Committee Act requires Federal Register publication 15 days prior to a meeting. The HSAC will meet to review the Quadrennial (Homeland Security) Review Advisory Committee final report with findings and recommendations.

Public Participation: Members of the public may register to participate in this HSAC teleconference via afore mentioned procedures. Each individual must provide his or her full legal name, e-mail address and phone number no later than 5 p.m. EST on May 25, 2010, to a staff member of the HSAC via e-mail at HSAC@dhs.gov or via phone at (202) 447-3135. HSAC conference call details will be provided to interested members of the public at this time.

Information on Services for Individuals with Disabilities: For information on facilities or services for individuals with disabilities, or to request special assistance at the meeting, contact the HSAC as soon as possible.

Dated: May 7, 2010.
Becca Sharp,
Executive Director, Homeland Security Advisory Council, DHS.

[FR Doc. 2010-11293 Filed 5-11-10; 8:45 am]

BILLING CODE 9110-9M-P